DEPARTMENT OF TRANSPORTATION

Federal Aviation Administration

Second Meeting: RTCA Special Committee (235) Non-Rechargeable Lithium Batteries

AGENCY: Federal Aviation Administration (FAA), U.S. Department of Transportation (DOT).

ACTION: Notice of Second RTCA Special Committee 235 Meeting.

SUMMARY: The FAA is issuing this notice to advise the public of the Second RTCA Special Committee 235 meeting.

DATES: The meeting will be held January 13-14, 2016 from 09:00 a.m.-5:00 p.m.

ADDRESSES: The meeting will be held at RTCA, Inc., 1150 18th Street NW., Suite 910, Washington, DC 20036, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a) (2) of the Federal Advisory Committee Act (Pub. L. 92-463, 5 U.S.C., App.), notice is hereby given for a meeting of RTCA Special Committee 235. The agenda will include the following:

Wednesday, January 13, 2016

1. Welcome and Administrative Remarks

2. Introductions

3. Agenda Review

4. Meeting-Minutes Review

5. Status Report of Working-Group Leaders (WG #1-#3)

a. WG-1—New DO-227A Template, Map Requirements, Harmonize Terminology, and create new Section 1

b. WG-2—Cell and Battery Requirements and testing; Create new Sections 2.1 and 2.2

6. Review of program schedule

7. Action Item Review

8. Presentation: FAA Tech Center Testing on Non-Rechargeable Lithium Batteries

9. Any other Business

a. Discussion on Cell Internal Short

10. Date and Place of Next Meeting

11. Adjourn

Thursday, January 14, 2016

1. Continuation of Plenary or Working Group Session

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on December 9, 2015.
Latasha Robinson,
Management & Program Analyst, Next Generation, Enterprise Support Services Division, Federal Aviation Administration.

[FR Doc. 2015-31408 Filed 12-14-15; 8:45 am]

BILLING CODE 4910-13-P